DEPARTMENT OF JUSTICE

Notice of Lodging of Proposed Amendment to Consent Decree Under the Comprehensive Environmental Response, Compensation, and Liability Act

Under 28 CFR 50.7, notice is hereby given that on September 2, 2005, three proposed Consent Decrees were lodged with the United States District Court for the Eastern District of Pennsylvania in U.S. v. Union Corps., et al., Civil Action No. 80-1589, DJ #90-11-2-1183A.

The consent decrees propose to resolve the liability of Defendants Irvin G. Schorsch and John B. Schorsch, and Third Party Defendants Baltimore Gas and Electric Company, Consolidated Edison Company of New York, Inc., Jersey Center Power & Light Company, Long Island Lighting Company d/b/a LIPA, Metropolitan Edison Company, Orange and Rockland Utilities, PECO Energy Company, Potomac Electric Power Company, PP&L Electric Utilities Corporation, Public Service Electric and Gas Company, and Virginia Power Company (“the Utilities”) under the Comprehensive Environment Response, Compensation and Liability Act, 42 U.S.C. 9606 and 9607, and the Resource Conservation and Recovery Act “RCRA”), 42 U.S.C. 6973, et seq. at the Metal Bank Superfund Site, located in Philadelphia, Pennsylvania (“the Site”).

The consent decree would globally settle this action. The Utilities would implement the Revised Remedial Plan for the Site, which has been approved by EPA, Region 3, and is attached to the Consent Decrees as an appendix, the implementation of which would be overseen by EPA. EPA would make available to the Utilities the moneys received and to be received from Outsourcing Solutions, Inc., under an earlier settlement with the corporate defendants in bankruptcy, which is expected to total $13.235 million. Irvin Schorsch would pay $9 million, $5.5 million of which would be paid to the United States and $3.5 million would be paid to the Utilities, and he would also guarantee up to $2 million of OSI's payments. John Schorsch would pay $600,000, $50,000 of which would be paid to the United States and $550,000 would be paid to the utilities. Finally, the Utilities would pay all costs for the remedy, excluding oversight costs, not otherwise provided for and will indemnify Defendant Irvin G. Schorsch for any liability for cost overruns for work done under the revised remedial plan or under reopeners for future work needed at the site in connection with the site remediation.

The Department of Justice will receive for a period of thirty (30) days from the date of this publication comments relating to the Amendment. Comments should be addressed to the Assistant Attorney General, Environmental and Natural Resources Division, P.O. Box 7611, U.S. Department of Justice, Washington, DC 20044-7611, and should refer to U.S. v. Union Corp., et al., Civil Action No. 80-1589 (E.D.Pa.).

The Consent Decrees may be examined at the Office of the United States Attorney, Eastern District of Pennsylvania, 615 Chestnut Street, Philadelphia, Pennsylvania. During the public comment period, the Amendment may also be examined on the following Department of Justice Web site, http://www.usdoj.gov/enrd/open.htm. A copy of the Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $47.75 payable to the U.S. Treasury. In requesting a copy exclusive of exhibits and defendants' signatures, please enclosed a check in the amount of $8.25 payable to the U.S. Treasury.

Robert Brook,
Assistant Chief, Environmental Enforcement Section, Environment and Natural Resources Division.

[FR Doc. 05-18887 Filed 9-21-05; 8:45 am]

BILLING CODE 4410-15-M